DEPARTMENT OF HOUSING AND URBAN DEVELOPMENT

[Docket No. FR-6227-N-01]

Announcement of Funding Awards

AGENCY: Office of the Chief Financial Officer.

ACTION: Notice.

SUMMARY: In accordance with the Department of Housing and Urban Development Reform Act of 1989, this announcement notifies the public of funding decisions made by the Department in competitions for funding under the Notices of Funding Availability (NOFAs) for the following program: Fiscal Year (FY) 2017 HUD Community Compass Technical Assistance and Capacity Building Program, FY2018 HUD Community Compass Technical Assistance and Capacity Building Program, FY2018 Rural Capacity Building for Community Development and Affordable Housing Grants, FY2019 Section 4 Capacity Building for Community Development and Affordable Housing Grants (Section 4), FY2019 Self-Help Homeownership Opportunity Program (SHOP), FY2019 Veterans Housing Rehabilitation and Modification Pilot Program, and FY2018/2019 Indian Housing Block Grant (IHBG) Program—Competitive Grants.

FOR FURTHER INFORMATION CONTACT: Office of the Chief Financial Officer, Grants Management and Oversight Division at AskGMO@hud.gov or the contact person listed in each appendix.

SUPPLEMENTARY INFORMATION:

HUD posted its FY 2017 HUD Community Compass Technical Assistance and Capacity Building Program on grants.gov on August 14, 2017, (FR-6100-N-06). The competition closed on September 28, 2017. HUD rated and selected for funding based on selection criteria contained in the NOFA. Initial awards were announced via the FR Notice published on May 17, 2018. Today's Notice announces ten (10) additional awards totaling $7,799,160. Three of the ten awards were amendments to the initial awards for technical assistance and capacity building support to grantees of HUD's Homeless Assistance Grant programs. The other seven (7) awards are new awards issued to applicants under the NOFA, to support the technical assistance needs of grantees of HUD's Disaster Recovery program. The Community Compass Technical Assistance and Capacity Building Program is designed to help HUD grantees and other customers navigate complex housing and community development challenges by equipping them with the knowledge, skills, tools, capacity, and systems to implement HUD programs and policies successfully and be more effective stewards of HUD funding.

HUD posted its FY 2018 HUD Community Compass Technical Assistance and Capacity Building Program on grants.gov on December 17, 2018, (FR-6200-N-06). The competition closed on March 14, 2019. HUD rated and selected for funding based on selection criteria contained in the NOFA. This competition awarded $155,840,288.34 to 26 recipients to provide technical assistance and capacity building services to grantees and other customers of HUD's Offices of Community Planning and Development (CPD), Public and Indian Housing (PIH), Housing, Policy Development and Research (PD&R), and Fair Housing and Equal Opportunity (FHEO). The awards also include SUPPORT Act, CARES Act, and Disaster Recovery funding for technical assistance to CPD grantees.

HUD posted its FY 2018 Rural Capacity Building for Community Development and Affordable Housing Grants competition on grants.gov on April 8, 2019, (FR-6300-N-08). The competition closed on June 11, 2019. HUD rated and selected for funding based on selection criteria contained in the NOFA. This competition awarded $5,000,000 to 3 recipients to enhance the capacity and ability of rural housing development organizations, Community Development Corporations (CDCs), Community Housing Development Organizations (CHDOs), local governments, and Indian tribes (eligible beneficiaries) to carry out affordable housing and community development activities in rural areas for the benefit of low- and moderate-income families and persons. The Rural Capacity Building program achieves this by funding National Organizations with expertise in rural housing and rural community development who work directly to build the capacity of eligible beneficiaries. RCB program funds are limited to activities that strengthen the organizational infrastructure and management capabilities of eligible beneficiaries serving rural areas. Through these activities, eligible beneficiaries increase their capacity to carry out community development and affordable housing activities that benefit low-income or low- and moderate-income families and persons in rural areas.

HUD posted its FY 2019 Self-Help Homeownership Opportunity Program (SHOP) competition on grants.gov on July 9, 2019, (FR-6300-N-19). The competition closed on September 9, 2019. HUD rated and selected for funding based on selection criteria contained in the NOFA. This competition awarded $10,000,000 to four recipients to provide eligible national and regional non-profit organizations and consortia to purchase home sites, develop or improve the infrastructure needed to set the stage for sweat equity, and volunteer-based homeownership programs for low-income persons and families. SHOP funds must be used for eligible expenses to develop decent, safe and sanitary non-luxury housing for low-income persons and families who otherwise would not be able to afford to become homeowners.

HUD posted its FY 2019 Section 4 Capacity Building for Community Development and Affordable Housing Grants (Section 4) on grants.gov on January 9, 2020, (FR-6300-N-07). The competition closed on March 12, 2020. HUD rated and selected for funding based on selection criteria contained in the NOFA. This competition awarded $35,000,000 to 3 recipients to the capacity and ability of Community Development Corporations (CDCs) and Community Housing Development Organizations (CHDOs) to carry out affordable housing and community development activities that benefit low- and moderate-income families and persons. Funds may be used to provide training, education, support, and advice to enhance the technical and administrative capabilities of CDCs and CHDOS; and as financial assistance to CDCs and CHDOs to increase their capacity to carry out community development and affordable housing activities.

HUD posted its FY 2019 Veterans Housing Rehabilitation and Modification Pilot Program on grants.gov on April 19, 2019, (FR-6300-N-39). The competition closed on May 22, 2019. HUD rated and selected for funding based on selection criteria contained in the NOFA. This competition awarded $4,824,000 to five recipients to provide nationwide or statewide programs which primarily serve veterans and/or low-income individuals. Program funds must also be used to assist our nation's low-income veterans living with disabilities who need adaptive housing to help them regain or maintain their independence. In partnership with the U.S. Department of Veterans Affairs, HUD is addressing these challenges by awarding competitive grants to organizations that primarily serve veterans and low-income people.

HUD posted its FY2018/2019 Indian Housing Block Grant (IHBG) Program—Competitive Grants on grants.gov on May 7, 2019, (FR-6300-N-48). The competition closed on August 8, 2019. HUD rated and selected for funding based on selection criteria contained in the NOFA. This competition awarded $205,986,618 to 54 eligible Indian tribes and Tribally Designated Housing Entities (TDHEs) for projects that spur new construction and rehabilitation of affordable housing units in Indian Country. The FY 2018/2019 IHBG Competitive NOFA also encouraged other affordable housing projects under Title I of the Native American Housing Assistance and Self-Determination Act of 1996 (25 U.S.C.4101 et seq.), including necessary infrastructure projects and other eligible affordable housing activities.

In accordance with section 102(a)(4)(C) of the Department of Housing and Urban Development Reform Act of 1989 (103 Stat. 1987, 42 U.S.C. 3545(a)(4)(C)), the Department is publishing the awardees and the amounts of the awards in Appendices A thru G of this document.

Dorthera Yorkshire,
Director, Grants Management and Oversight.

Appendix A

FY2017 HUD Community Compass Technical Assistance and Capacity Building Program

Contact: Stephanie V. Stone, (202) 402-7418.

Legal name | Address line 1 | City | State | Zip 5 | Estimated funding total amount | Amendment amount | Disaster total award
Abt Associates Inc | 55 Wheeler Street | Cambridge | MA: Massachusetts | 02138 | $12,000,000.00 | $99,580.00 | $600,000.00
Cloudburst Consulting Group, Inc | 8400 Corporate Drive, Suite 550 | Landover | MD: Maryland | 20785 | 15,000,000.00 | 0.00 | 850,000.00
Corporate F.A.C.T.S | 51248 Plymouth Valley Drive | Plymouth | MI: Michigan | 48170 | 20,000,000.00 | 0.00 | 1,000,000.00
Enterprise Community Partners, Inc | 70 Corporate Center, 11000 Broken Land Parkway | Columbia | MD: Maryland | 21044 | 10,000,000.00 | 0.00 | 800,000.00
HomeBase/The Center for Common Concerns | 870 Market Street, Suite 1228 | San Francisco | CA: California | 94102 | 15,000,000.00 | 1,500,000.00
ICF Incorporated, LLC | 9300 Lee Highway | Fairfax | VA: Virginia | 22031 | 20,000,000.00 | 99,580.00 | 1,200,000.00
National Association for Latino Community Asset Builders | 5404 Wurzbach Rd | San Antonio | TX: Texas | 78238 | 5,000,000.00 | 0.00 | 600,000.00
TDA Consulting, Inc | 17 Caleb Circle | San Antonio | TX: Texas | 78258 | 20,000,000.00 | 0.00 | 1,050,000.00
|  |  |  |  |  | 1,699,160.00 | 6,100,000.00
Total |  |  |  |  |  |  | 7,799,160.00

Appendix B

FY2018 HUD Community Compass Technical Assistance and Capacity Building Program

Contact: Stephanie V. Stone, (202) 402-7418.

Legal name | Address line 1 | City | Zip code | Total 2018/2019 award | FY 2019 disaster TA awards | Total supplemental awards | Total awards
Collaborative Solutions, Inc | P.O. Box 130159 | Birmingham | 35213 | $1,840,000 | $0.00 | $750,000 | $2,590,000
HomeBase/The Center for Common Concerns | 870 Market Street | San Francisco | 94102 | 4,570,500 | 0.00 | 1,000,000 | 5,570,500
ICF Incorporated, LLC | 9300 Lee Highway | Fairfax | 22031 | 32,570,905.34 | 1,750,000 | 5,500,000 | 39,520,905.34
National Fair Housing Alliance | 1331 Pennsylvania Ave. NW, Suite 650 | Washington | 20004 | 250,000 | 0.00 | 0.00 | 250,000
ECONOMETRICA, INC | 7475 Wisconsin Avenue | Bethesda | 20814 | 3,491,910 | 0.00 | 0.00 | 3,491,910
FirstPic, Inc | 2614 Chapel Lake Drive | Gambrills | 21054 | 7,458,000 | 0.00 | 0.00 | 7,458,000
Abt Associates Inc | 6130 Executive Blvd | Rockville | 20852 | 16,812,595 | 0.00 | 3,000,000 | 19,812,595
Corporation for Supportive Housing | 61 Broadway | New York | 10006 | 7,441,500 | 0.00 | 4,000,000 | 11,441,500
Corporate FACTS | 51248 Plymouth Valley Dr | Plymouth | 48170 | 1,525,000 | 250,000 | 1,000,000 | 2,775,000
The Partnership Center, Ltd | 2134 Alpine Pl | Cincinnati | 45206 | 1,021,400 | 0.00 | 250,000 | 1,271,400
University of Illinois-Chicago (formerly John Marshall Law School) | 315 South Plymouth Court | Chicago | 60604 | 1,500,000 | 0.00 | 0.00 | 1,500,000
National American Indian Housing Council | 122 C Street NW, Suite 350 | Washington | 20001 | 4,500,000 | 0.00 | 0.00 | 4,500,000
Technical Assistance Collaborative, Inc | 31 Saint James Avenue | Boston | 02116 | 5,689,400 | 0.00 | 2,400,000 | 8,089,400
Association of Alaska Housing Authorities | 4300 Boniface Parkway | Anchorage | 99504 | 1,650,000 | 0.00 | 0.00 | 1,650,000
Cloudburst Consulting Group, Inc | 8400 Corporate Drive, Suite 550 | Landover | 20785 | 12,149,100 | 1,000,000 | 5,900,000 | 19,049,100
CVR Associates, Inc | 2309 S MacDill Avenue | Tampa | 33629 | 2,350,000 | 0.00 | 0.00 | 2,350,000
Enterprise Community Partners, Inc | 70 Corporate Center | Columbia | 21044 | 6,543,119 | 0.00 | 500,000 | 7,043,119
Local Initiatives Support Corporation | 501 7th Avenue | New York City | 10018 | 1,210,000 | 0.00 | 500,000 | 1,710,000
Innovative Emergency Management, Inc | 2801 Slater Road | Morrisville | 27560 | 1,100,000 | 0.00 | 0.00 | 1,100,000
TDA Consulting, Inc | 17 Caleb Circle | San Antonio | 78258 | 4,043,368 | 1,000,000 | 1,000,000 | 6,043,368
BCT Partners, LLC | 105 Lock Street, Suite 311 | Newark | 07103 | 1,000,000 | 0.00 | 0.00 | 1,000,000
American Institutes for Research | 1000 Thomas Jefferson Street NW | Washington | 20007 | 1,153,491 | 0.00 | 0.00 | 1,153,491
Federal Practice Group LLC | 2100 Crystal Drive, Suite 675 | Arlington | 22202 | 250,000 | 0.00 | 0.00 | 250,000
Du & Associates, Inc | 7501 Wisconsin Avenue | Bethesda | 20814 | 1,300,000 | 0.00 | 0.00 | 1,300,000
National Association for Latino Community Asset Builders | 5404 Wurzbach Rd | San Antonio | 78238 | 1,015,000 | 0.00 | 500,000 | 1,515,000
Capital Access, Inc | 325 Chestnut Street | Philadelphia | 19106 | 1,605,000 | 1,000,000 | 500,000 | 3,105,000
|  |  |  | 124,040,288.34 | 5,000,000 | 26,800,000 | 155,840,288.34

Appendix C

FY2018 Rural Capacity Building for Community Development and Affordable Housing Grants (RCB)

Contact: Diane Schmutzler, (202) 402-4385.

Recipient | Address | City | State | Zip code | Amount
Housing Assistance Council | 1025 Vermont Ave NW Ste 606 | Washington | DC | 20005-3516 | $1,892,473
Minnesota Housing Partnership | 2446 University Ave West Suite 140 | St. Paul | MN | 55114-1740 | 1,706,093
National Association for Latino Community Asset Builders | 5404 Wurzbach Rd | San Antonio | TX | 78238-2428 | 1,401,434
Total |  |  |  |  | 5,000,000

Appendix D

FY2019 Section 4 Capacity Building for Community Development and Affordable Housing Grants (Section 4)

Contact: Anupama Abhyankar (Pam), (202) 402-3981.

Recipient | Address | City | State | Zip code | Amount
Enterprise Community Partners, Inc | 11000 Broken Land Pkwy, Suite 700 | Columbia | MD | 21044-3535 | $14,314,931
Local Initiatives Support Corporation | 28 Liberty Street, Floor 34 | New York | NY | 10005 | 14,314,931
Habitat for Humanity International | 322 W. Lamar | Americus | GA | 31709 | 6,370,138
Total |  |  |  |  | 35,000,000

Appendix E

FY2019 Self-Help Homeownership Opportunity Program (SHOP)

Contact: Jackie L. Williams, Ph.D., (202) 708-2290.

Organization | Address | City | County | Zip code | Amount
Habitat for Humanity International | 322 West Lamar Street | Americus | GA | 31709-3423 | $5,421,011
Tierra del Sol Housing Corporation | P.O. Box 2626 | Anthony | NM | 88021-9346 | 2,150,107
Community Frameworks | 907 West Riverside Avenue | Spokane | WA | 98337-1902 | 1,121,868
Housing Assistance Council | 1025 Vermont Avenue NW, Suite 606 | Washington | DC | 20005-3516 | 1,307,014
|  |  |  |  | 10,000,000

Appendix F

FY2019 Veterans Housing Rehabilitation and Modification Pilot Program

Contact: Jackie L. Williams, Ph.D., (202) 708-2290.

Organization | Address | City | County | Zip code | Amount
Habitat for Humanity International, Inc | 322 West Lamar Street | Americus | GA | 31709-3423 | $1,000,000
St. Bernard Project | 2645 Toulouse Street | New Orleans | LA | 70110-5045 | 1,000,000
New Mexico Affordable Housing Charitable Trust | 344 4th St. SW | Albuquerque | NM | 87102-3206 | 1,000,000
Volunteers of America Texas, Inc | 300 E. Midway | Euless | TX | 76039-3711 | 1,000,000
Housing Assistance Council | 1025 Vermont Avenue NW, Suite 606 | Washington | DC | 20005-3516 | 824,020
Total |  |  |  |  | 4,824,020

Appendix G

FY2019 Indian Housing Block Grant (IHBG) Program—Competitive Grants

Contact: Hilary Atkin, Director of Grants Management Office of Native American Programs (202) 402-3427.

Recipient | Address | City | State | Zip code | Amount
Akwesasne Housing Authority | 378 State Route 37 | Hogansburg | NY | 13655 | $4,787,173
Aleut Community of St. Paul Tribal Government | P.O. Box 86 | St. Paul Island | AK | 99660 | 2,481,226
Aleutian Housing Authority | 520 E 32nd Avenue | Anchorage | AK | 99503 | 2,530,496
All Mission Indian Housing Authority | 27368 Via Industria | Temecula | CA | 92590 | 5,000,000
Bay Mills Indian Community | 12140 W. Lakeshore Drive | Brimley | MI | 49715 | 1,823,713
Bear River Band of the Rohnerville Rancheria | 266 Keisner Road | Loleta | CA | 95551 | 1,474,673
Chippewa Cree | 96 Clinic Road | Box Elder | MT | 59521 | 4,945,214
Chitimacha Tribe of Louisiana | P.O. Box 661 | Charenton | LA | 70523 | 3,860,725
Choctaw Housing Authority | 13660 Highway 16 West | Choctaw | MS | 39350 | 5,000,000
Colville Indian Housing Authority | 42 Convalescent Center Blvd | Nespelem | WA | 99155 | 5,000,000
Cook Inlet Housing Authority | 3510 Spenard Road | Anchorage | AK | 99503 | 5,000,000
Copper River Basin | P.O. Box 89 | Copper River | AK | 99588-0089 | 5,000,000
Coquille Indian Housing Authority | 2678 Mexeye Loop | Coos Bay | OR | 97420 | 1,274,985
Cow Creek Band of Umpqua Tribe of Indians | 2371 NE Stephens Street | Roseburg | OR | 97470 | 3,775,933
Dry Creek Rancheria Band of Pomo Indians | P.O. Box 607 | Geyserville | CA | 95441 | 4,998,446
Eastern Shoshone Housing Authority | P.O. Box 538 | Fort Washakie | WY | 82514 | 4,200,000
Enterprise Rancheria Indian Housing Authority | 2133 Monte Vista | Oroville | CA | 95966 | 4,953,094
Fort Peck Housing Authority | P.O. Box 667 | Poplar | MN | 59255 | 5,000,000
Gwichyaa Zhee Tribal Government | P.O. Box 126 | Fort Yukon | AK | 99740 | 1,520,000
Iipay Nation of Santa Ysabel | 100 School House Canyon Road | Santa Ysabel | CA | 92070 | 4,624,017
Jicarilla Apache Housing Authority | 42 Hawks Drive | Dulce | NM | 87528 | 5,000,000
Kalispel Indian Community of the Kalispel Reservation | 1981 N. Leclerc Rd | Cusick | WA | 99119 | 1,000,000
Lower Sioux Indian Housing Authority | 39527 Reservation Highway 1 | Morton | MN | 56270 | 1,597,125
Mescalero Apache Tribe Housing Department | P.O. Box 710 | Zuni | NM | 87327 | 4,000,000
Modoc Tribe of Oklahoma | 22 N. Eight Tribes Trail | Miami | OK | 74354 | 3,000,000
Muckleshoot Indian Tribe dba Muckleshoot Housing Authority | 38037 158th Ave. SE | Auburn | WA | 98092 | 5,000,000
Nambe Pueblo Housing Entity | 11 W. Gutierrez | Santa Fe | NM | 87506 | 3,025,760
North Fork Rancheria Indian Housing Authority | 57907 Old Mill Site Court | North Fork | CA | 93643 | 5,000,000
North Pacific Rim Housing Authority | 8300 King Street | Anchorage | AK | 99518 | 4,393,836
Northern Arapaho Housing Authority | 501 Ethete Road | Ethete | WY | 82520 | 4,975,366
Northern Ponca Housing Authority | 1501 Michigan Avenue | Norfolk | NE | 68701 | 5,000,000
Ohkay Owingeh Housing Authority | P.O. Box 1059 | Ohkay Owingeh | NM | 87566 | 5,000,000
Ramona Band of Cahuilla | 56310 Hwy 371 | Anza | CA | 92539 | 2,540,000
Red Cliff Chippewa Housing Authority | 37645 New Housing Road | Bayfield | WI | 54814 | 4,845,656
Red Lake Reservation Housing Authority | 24338 Hwy 1 East | Red Lake | MN | 56671 | 2,250,000
Saginaw Chippewa Indian Tribe of Michigan | 7070 East Broadway | Mount Pleasant | MI | 48858 | 3,967,260
Salish & Kootenai Housing Authority | P.O. Box 38 | Pablo | MT | 59855 | 3,912,500
San Felipe Pueblo Housing Authority | P.O. Box 4222 | San Felipe | NM | 87001 | 5,000,000
Santo Domingo Tribal Housing Authority | 26 Highway 22 W | Santo Domingo Pueblo | NM | 85702 | 4,515,723
Sault Tribe Housing Authority | 154 Parkside Drive | Kincheloe | MI | 49788 | 5,000,000
Southern Ute Indian Housing Authority | 760 Shoshone Avenue | Ignacio | CO | 81137 | 1,122,000
Swinomish Housing Authority | 17547 1st Street, P.O. Box 677 | La Conner | WA | 98257 | 1,375,708
Tamaya Housing, Inc | 37B Day School Road | Santa Ana Pueblo | NM | 87004 | 4,824,139
The Chickasaw Nation | 520 E. Arlington, Box 1548 | Ada | OK | 74821 | 5,000,000
Thlopthlocco Tribal Town | P.O. Box 188 | Okemah | OK | 74859 | 2,818,428
Tohono O'odham Ki_Ki Housing Assocation | P.O. Box 790 | Sells | AZ | 85634 | 5,000,000
Tolowa Dee-ni' Nation | 140 Rowdy Creek Road | Smith River | CA | 95567 | 5,000,000
Torres Martinez Desert Cahuilla | 66-725 Martinez Road | Thermal | CA | 92274 | 3,700,000
White Mountain Apache Housing Authority | P.O. Box 1270 | Whiteriver | AZ | 85941 | 5,000,000
Winnemucca Indian Colony | 595 Humboldt Street | Reno | NV | 89509 | 825,093
Wyandotte Nation | 64700 East Highway 60 | Wyandotte | OK | 74370 | 1,385,745
Yakama Nation Housing Authority | P.O. Box 156 | Wapato | WA | 98951 | 5,000,000
Ysleta del Sur Pueblo | 119 S. Old Pueblo Road | El Paso | TX | 79907 | 3,662,584
Zuni Housing Authority | 15540 Highway 101 North | Klamath | CA | 95548 | 5,000,000
Total |  |  |  |  | 205,986,618

[FR Doc. 2020-19282 Filed 8-31-20; 8:45 am]

BILLING CODE 4210-67-P